SMALL BUSINESS ADMINISTRATION

Public Federal Regulatory Enforcement Fairness Hearing; Region V Regulatory Fairness Board

The Small Business Administration Region V Regulatory Fairness Board and the SBA Office of the National Ombudsman will hold a Public Hearing on Thursday, March 24, 2005 at 8:30 a.m. at the Marion County Public Library at Glendale Mall, 6101 N. Keystone Avenue, Indianapolis, IN 46220, to receive comments and testimony from small business owners, small government entities, and small non-profit organizations concerning regulatory enforcement and compliance actions taken by federal agencies.

Anyone wishing to attend or to make a presentation must contact Francine Protogere in writing or by fax, in order to be put on the agenda. Francine Protogere, District Counsel, SBA Indiana District Office, 429 N. Pennsylvania Street, Suite 100, Indianapolis, IN 46204, phone (317) 226-7272 Ext. 270, fax (317) 226-7259, e-mail: Francine.Protogere@sba.gov.

For more information, see our Web site at http://www.sba.gov/ombudsman.

Dated: February 28, 2005.
Peter Sorum,
Senior Advisor, Office of the National Ombudsman.

[FR Doc. 05-4320 Filed 3-4-05; 8:45 am]

BILLING CODE 8025-01-P